DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Secrecy and License to Export.

Form Number(s): N/A.

Agency Approval Number: 0651-0034.

Type of Request: Extension of a currently approved collection.

Burden: 1,310 hours annually.

Number of Respondents: 1,669 responses per year. Of this total, the USPTO expects that approximately 6 per year for petition for rescission of secrecy order, 3 per year for permit to disclose or modification of secrecy order, 1 per year for general and group permits, 1,402 per year for petition for expedited handling of license (no corresponding application), 126 per year for petition for expedited handling of license (corresponding U.S. application), 1 for petition for changing scope of license, and 130 per year for a petition for retroactive license will be filed.

Avg. Hours Per Response: It is estimated to take an average of 3.0 hours for permit for rescission of secrecy order; 2.0 hours for permit to disclose or modification of secrecy order; 1.0 hours for general and group permits; 0.5 hours each for foreign filing licenses: petition for expedited handling of license (no corresponding application), petition for expedited handling of license (corresponding U.S. application), petition for changing scope of license; and 4.0 hours for petition for retroactive license for the public to gather, prepare and submit the various petitions.

Needs and Uses: In the interest of national security, patent laws and rules place certain limitations on the disclosure of information contained in patents and patent applications and on the filing of applications for patents in foreign countries. When an invention is determined to be detrimental to national security, the Director of the USPTO must issue a secrecy order and withhold the grant of a patent for such period as the national interest requires. The USPTO collects information to determine whether the patent laws and rules have been complied with, and to grant or revoke licenses to file abroad when appropriate. This collection of information is required by 35 U.S.C. 181-188 and administered through 37 CFR 5.1-5.33. There are no forms associated with this collection of information.

Affected Public: Individuals or households; business or other for-profit; not-for-profit institutions; farms; the Federal government; and State, local or tribal Government.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, (703) 308-7400, U.S. Patent and Trademark Office, PO Box 1450, Alexandria, VA 22313, Attn: CPK 3 Suite 310, or by e-mail at susan.brown@uspto.gov.

Written comments and recommendations for the proposed information collection should be sent on or before April 14, 2004 to David Rostker, OMB Desk Officer, Room 10202, New Executive Office Building, Washington, DC 20503.

Dated: March 5, 2004.
Susan K. Brown,
Records Officer, USPTO, Office of the Chief Information Officer, Office of Data Architecture and Services, Data Administration Division.

[FR Doc. 04-5727 Filed 3-12-04; 8:45 am]

BILLING CODE 3510-16-P